DEPARTMENT OF ENERGY

Federal Energy Regulatory Commission

Combined Notice of Filings #1

Take notice that the Commission received the following electric corporate filings:

Docket Numbers: EC23-52-000.

Applicants: Saddleback Ridge Wind, LLC.

Description: Application for Authorization Under Section 203 of the Federal Power Act of Saddleback Ridge Wind, LLC.

Filed Date: 1/13/23.

Accession Number: 20230113-5294.

Comment Date: 5 p.m. ET 2/3/23.

Docket Numbers: EC23-53-000.

Applicants: GC PGR AssetCo, LLC, Allora Solar, LLC, Cabin Creek Solar, LLC, Eastover Solar LLC, Gunsight Solar, LLC, Phobos Solar, LLC, PGR 2021 Lessee 11, LLC, PGR 2021 Lessee 12, LLC, PGR 2021 Lessee 15, LLC, PGR 2021 Lessee 17, LLC, PGR 2021 Lessee 19, LLC.

Description: Joint Application for Authorization Under Section 203 of the Federal Power Act of GC PGR AssetCo, LLC, et al.

Filed Date: 1/17/23.

Accession Number: 20230117-5223.

Comment Date: 5 p.m. ET 2/7/23.

Take notice that the Commission received the following electric rate filings:

Docket Numbers: ER21-2462-000.

Applicants: Sempra Gas & Power Marketing, LLC.

Description: Refund Report: Sempra Gas &amp; Power Marketing WECC Refund Report to be effective N/A.

Filed Date: 1/17/23.

Accession Number: 20230117-5203.

Comment Date: 5 p.m. ET 2/7/23.

Docket Numbers: ER22-2867-002.

Applicants: Bluegrass Solar, LLC.

Description: Tariff Amendment: Response to Deficiency Letter in Docket ER22-2867 to be effective 10/1/2022.

Filed Date: 1/17/23.

Accession Number: 20230117-5002.

Comment Date: 5 p.m. ET 2/7/23.

Docket Numbers: ER23-845-000.

Applicants: Ohio Power Company, AEP Ohio Transmission Company, Inc., PJM Interconnection, L.L.C.

Description: § 205(d) Rate Filing: Ohio Power Company submits tariff filing per 35.13(a)(2)(iii: AEPSC submits one Facilities Agreement re: ILDSA, SA No. 1336 to be effective 3/19/2023.

Filed Date: 1/17/23.

Accession Number: 20230117-5025.

Comment Date: 5 p.m. ET 2/7/23.

Docket Numbers: ER23-846-000.

Applicants: PacifiCorp.

Description: § 205(d) Rate Filing: Constellation FKA Exelon NITSA (OR DA) SA 943 Rev 4 to be effective 1/1/2023.

Filed Date: 1/17/23.

Accession Number: 20230117-5084.

Comment Date: 5 p.m. ET 2/7/23.

Docket Numbers: ER23-847-000.

Applicants: PJM Interconnection, L.L.C.

Description: § 205(d) Rate Filing: Revised ISA, Service Agreement No. 3753; Queue No. AF1-051 to be effective 12/15/2022.

Filed Date: 1/17/23.

Accession Number: 20230117-5087.

Comment Date: 5 p.m. ET 2/7/23.

Docket Numbers: ER23-848-000.

Applicants: American Electric Power Service Corporation, Ohio Power Company, AEP Ohio Transmission Company, Inc., PJM Interconnection, L.L.C.

Description: § 205(d) Rate Filing: American Electric Power Service Corporation submits tariff filing per 35.13(a)(2)(iii: AEPSC submits one Facilities Agreement re: ILDSA, SA No. 1336 to be effective 3/19/2023.

Filed Date: 1/17/23.

Accession Number: 20230117-5088.

Comment Date: 5 p.m. ET 2/7/23.

Docket Numbers: ER23-849-000.

Applicants: Midcontinent Independent System Operator, Inc.

Description: § 205(d) Rate Filing: 2023-01-17_SA 3353 Termination of METC-River Fork Solar E&P (J806) to be effective 1/18/2023.

Filed Date: 1/17/23.

Accession Number: 20230117-5095.

Comment Date: 5 p.m. ET 2/7/23.

Docket Numbers: ER23-850-000.

Applicants: PJM Interconnection, L.L.C.

Description: § 205(d) Rate Filing: Original ISA, Service Agreement No. 6753; Queue No. AD2-022/AD2-023 to be effective 12/15/2022.

Filed Date: 1/17/23.

Accession Number: 20230117-5100.

Comment Date: 5 p.m. ET 2/7/23.

Docket Numbers: ER23-851-000.

Applicants: PJM Interconnection, L.L.C.

Description: § 205(d) Rate Filing: Original ISA, Service Agreement No. 6745; Queue No. AC2-015 to be effective 12/15/2022.

Filed Date: 1/17/23.

Accession Number: 20230117-5108.

Comment Date: 5 p.m. ET 2/7/23.

Docket Numbers: ER23-852-000.

Applicants: American Electric Power Service Corporation, PJM Interconnection, L.L.C.

Description: § 205(d) Rate Filing: American Electric Power Service Corporation submits tariff filing per 35.13(a)(2)(iii: AEP submits revisions to PJM OATT to update Depreciation Rates to be effective 3/20/2023.

Filed Date: 1/17/23.

Accession Number: 20230117-5111.

Comment Date: 5 p.m. ET 2/7/23.

Docket Numbers: ER23-853-000.

Applicants: Saint Energy Storage II, LLC.

Description: Baseline eTariff Filing: Saint Energy Storage II, LLC Application for Market-Based Rate Authorization to be effective 3/19/2023.

Filed Date: 1/17/23.

Accession Number: 20230117-5134.

Comment Date: 5 p.m. ET 2/7/23.

Docket Numbers: ER23-854-000.

Applicants: Storey Energy Center, LLC.

Description: Baseline eTariff Filing: Storey Energy Center, LLC Application for Market-Based Rate Authorization to be effective 3/15/2023.

Filed Date: 1/17/23.

Accession Number: 20230117-5135.

Comment Date: 5 p.m. ET 2/7/23.

Docket Numbers: ER23-855-000.

Applicants: American Electric Power Service Corporation, Ohio Power Company, AEP Ohio Transmission Company, Inc., PJM Interconnection, L.L.C.

Description: Compliance filing: American Electric Power Service Corporation submits tariff filing per 35: Compliance Filing of AEPSC on behalf of Ohio Power & AEP Ohio to be effective 2/24/2022.

Filed Date: 1/17/23.

Accession Number: 20230117-5138.

Comment Date: 5 p.m. ET 2/7/23.

Docket Numbers: ER23-856-000.

Applicants: Pacific Gas and Electric Company.

Description: § 205(d) Rate Filing: CCSF missed Service Agreements (WDT SA 275) to be effective 3/19/2023.

Filed Date: 1/17/23.

Accession Number: 20230117-5140.

Comment Date: 5 p.m. ET 2/7/23.

Docket Numbers: ER23-857-000.

Applicants: FirstEnergy Service Company, Monongahela Power Company.

Description: Compliance filing: FirstEnergy Service Company submits tariff filing per 35: Compliance Filing re Waiver of Affiliate Rules of Monongahela Power to be effective 9/23/2022.

Filed Date: 1/17/23.

Accession Number: 20230117-5179.

Comment Date: 5 p.m. ET 2/7/23.

Docket Numbers: ER23-858-000.

Applicants: FirstEnergy Service Company, Allegheny Energy Supply Company, LLC.

Description: Compliance filing: FirstEnergy Service Company submits tariff filing per 35: Compliance Filing re Waiver of Affiliate Rules of AE Supply to be effective 9/23/2022.

Filed Date: 1/17/23.

Accession Number: 20230117-5181.

Comment Date: 5 p.m. ET 2/7/23.

Docket Numbers: ER23-860-000.

Applicants: North Country Wind LLC.

Description: North Country Wind LLC, submits a Petition for Limited, Prospective Tariff Waiver with Expedited Action of the requirement in Section 25.6.2.3.1 of Attachment S of the NYISO OATT.

Filed Date: 1/13/23.

Accession Number: 20230113-5356.

Comment Date: 5 p.m. ET 1/20/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2023.
Debbie-Anne A. Reese,
Deputy Secretary.

[FR Doc. 2023-01174 Filed 1-20-23; 8:45 am]

BILLING CODE 6717-01-P